DEPARTMENT OF TRANSPORTATION

Federal Aviation Administration

Public Notice for Waiver of Aeronautical Land-Use Assurance; Rickenbacker International Airport, Columbus, OH

AGENCY: Federal Aviation Administration, DOT

ACTION: Notice of intent of waiver with respect to land.

SUMMARY: The Federal Aviation Administration (FAA) is considering a proposal to change a portion of the airport designated aeronautical use to non-aeronautical use and authorize the release of approximately 70.463 acres of airport property. Approximately 69.903 acres of the property will be used as dedicated road right-of-way associated with Phase 1B of the Alum Creek Drive Extension to Franklin County for public transportation purposes. The remaining 0.56 acres of land will be used for land exchange with South Central Power Company. A small portion of the land is currently developed with existing roadways and four existing structures that formerly supported military base activities. The parcel was acquired by the Rickenbacker Port Authority through three agreements (Quitclaim Deeds) dated March 30, 1984, September 22, 2003 and May 16, 2005 from the United States of America. There are no impacts to the airport by allowing the airport to dispose of the property. The roadways currently support civilian airport activities. The present condition of the existing roadway pavements varies from poor to excellent. The present condition of the four existing structures are: Building 904—Sanitary sewer lift station for military cantonment area is currently in use, is in fair condition and will remain in use; Building 905 (Warehouse/Tank Control)—not in use, to be demolished; Building 906 (Warehouse Tank port)—Not in use, to be demolished; Building 812 (Former Base Exchange)—Not in use, to be demolished. Approval does not constitute a commitment by the FAA to financially assist in the disposal of the subject airport property nor a determination of eligibility for grant-in-aid funding from the FAA. In accordance with section 47107(h) of title 49, United States Code, this notice is required to be published in the Federal Register 30 days before modifying the land-use assurance that requires the property to be used for an aeronautical purpose.

DATES: Comments must be received on or before June 8, 2006.

FOR FURTHER INFORMATION CONTACT: Mary W. Jagiello, Program Manager, Federal Aviation Administration, Great Lakes Region, Detroit Airports District Office, DET ADO-608, 11677 South Wayne Road, Suite 107, Romulus, Michigan 48174. Telephone Number (734-229-2956)/FAX Number (734-229-2950). Documents reflecting this FAA action may be reviewed at this same location or at Rickenbacker International Airport, Columbus, Ohio.

SUPPLEMENTARY INFORMATION: Following is a legal description of the property located in Hamilton Township, Franklin County, Ohio, and described as follows:

Beginning at the northwesterly corner of dedicated right of way of Curtis Lemay Avenue (Port Road) as delineated on the Plat “Dedication of Curtis Lemay Avenue and Alum Creek Drive” of record in Plat Book 76, Page 46, being the northeasterly corner of said 0.371 acre tract;

Thence S 03°42′59″ W, along the westerly terminus line of said Curtis Lemay Avenue (Port Road) Dedication, an easterly line of said 0.371 acre tract and said 295.137 acre tract, a distance of 175.31 feet to the southwesterly corner of said Curtis Lemay Avenue (Port Road) Dedication;

Thence N 86°09′45″ W, through said 295.137 acre tract, a distance of 337.62 feet to a point of curvature;

Thence along the arc of a curve to the left continuing through said 295.137 acre tract, having a radius of 1829.31 feet, a central angle of 30°47′44″, an arc distance of 983.22 feet to a point, said arc being subtended by chord bearing S 78°26′23″ W, a chord distance of 971.43 feet;

Thence S 04°16′55″ W, continuing through said 295.137 acre tract, a distance of 10.00 feet to a point;

Thence N 86°06′35″ W, continuing through said 295.137 acre tract, a distance of 16.48 feet to a point of curvature;

Thence along the arc of a non-tangent curve to the left, continuing through said 295.137 acre tract, having a radius of 1829.31 feet, a central angle of 16°50′44″, an arc distance of 537.84 feet to a point, said arc being subtended by chord bearing S 54°00′49″ W, a chord distance of 535.91 feet to a point at a northwesterly corner of that 18.320 acre tract as described in a deed to Rickenbacker Port Authority of record in Instrument Number 200204090089210;

Thence S 45°35′27″ W, along the westerly line of said 18.320 acre tract and the westerly line of that 18.609 acre tract as described to Rickenbacker Port Authority of record in Instrument Number 200204090089210, a distance of 2170.11 feet to a point being the southwesterly corner of said 18.609 acre tract;

Thence S 30°31′30″ E, along the southerly line of said 18.609 acre tract, a distance of 703.25 feet to a point being the southeasterly corner of said 18.609 acre tract;

Thence S 06°04′34″ E, crossing said 295.137 acre tract, a distance of 148.97 feet to a point being the southwesterly corner a survey by HLG Engineering and Survey, Inc., of that 157.779 acre tract dated 01-15-98;

Thence S 30°31′14″ E, along the westerly line of said 157.779 acre tract, a distance of 1185.58 feet to a point of curvature;

Thence along an arc of a curve to the right, continuing along the westerly line of said 157.779 acre tract, having a radius of 330.00 feet, a central angle of 76°05′29″, an arc distance of 438.26 feet to a point, said arc being subtended by a chord bearing S 07°31′35″ W, a chord distance of 406.75 feet;

Thence S 45°34′19″ W, along the northwesterly line of said 157.770 acre tract and the northwesterly line of a survey by HLG Engineering and Survey, Inc., of that 126.485 acre tract dated 05-31-04 to the state of Ohio Adjutant General's Department, a distance of 3521.48 feet to a point of curvature;

Thence along an arc of a curve to the left, continuing along the northwesterly line of said 126.485 acre tract, having a radius of 340.00 feet, a central angle of 90°00′00″, an arc distance of 534.07 feet to a point, said arc being subtended by a chord bearing S 00°34′19″ W, a chord distance of 480.83 feet;

Thence S 44°25′41″ E, along the westerly line of said 126.485 acre tract, a distance of 2.47 feet to a point;

Thence S 45°34′38″ W, crossing said 295.137 acre tract, a distance of 218.04 feet to a point of curvature in the easterly railroad right of way of Norfolk Western Railway Company;

Thence along an arc of a non-tangent curve to the left, along said easterly railroad right of way, having a radius of 1938.85 feet, a central angle of 10°24′52″, an arc distance of 352.42 feet to a point, said point being subtended by a chord bearing N 33°37′05″ W, a chord distance of 351.93 feet;

Thence N 38°49′31″ W, continuing along said easterly right of way, a distance of 192.63 feet to a point;

Thence N 43°33′31″ E, through said 241.695 acre tract and that 41.463 acre tract to Columbus Regional Airport Authority, a distance of 3153.57 feet to a point of curvature;

Thence along an arc of a curve to the left, through said 41.463 acre tract and said 241.695 acre tract, having a radius of 789.44 feet, a central angle of 74°04′38″, an arc distance of 1020.66 feet to a point, said point being subtended by a chord bearing of N 06°29′51″ E, a chord distance of 951.04 feet;

Thence N 30°31′07″ W, continuing through said 241.695 acre tract, a distance of 864.22 feet to a point of curvature;

Thence along an arc of a curve to the right, through said 241.695 acre tract and said 295.137 acre tract, having a radius of 786.20 feet, a central angle of 76°06′34″, an arc distance of 1044.35 feet to a point, said point being subtended by a chord bearing of N 07°32′10″ E, a chord distance of 969.25 feet;

Thence N 45°35′27″ E, continuing through said 295.137 acre tract, a distance of 2212.72 feet to a point of curvature;

Thence along an arc of a curve to the right, continuing through said 295.137 acre tract, having a radius of 1979.86 feet, a central angle of 11°24′43″, an arc distance of 394.34 feet to a point in the westerly line of that 1.433 acre tract as described to South Central Power Company of record in Official Record 34399, Page E11, said point being subtended by a chord bearing of N 51°17′48″ E, a chord distance of 393.69 feet;

Thence S 04°16′55″ W, along the westerly line of said 1.433 acre tract, a distance of 43.85 feet to a point being the southwesterly corner of said 1.433 acre tract;

Thence S 86°06′35″ E, along the southerly line of said 1.433 acre tract, a distance of 210.16 feet to a point being the southeasterly line of said 1.433 acre tract;

Thence N 04°16′55″ E, along the easterly line of said 1.433 acre tract, a distance of 280.50 feet to a point being the northeasterly corner of said 1.433 tract;

Thence S 86°06′35″ W, along the northerly line of said 1.433 acre tract, a distance of 71.05 feet to a point being a northerly corner of said 1.433 acre tract;

Thence N 04°16′55″ E, along the easterly line of said 1.433 acre tract, a distance of 25.00 feet to a point being the northerly corner of said 1.433 tract;

Thence N 86°06′35″ W, along the northerly line of said 1.433 acre tract, a distance of 139.11 feet to a point being a northwesterly corner of said 1.433 acre tract;

Thence N 03°53′24″ E, leaving said 1.433 acre tract, through said 295.137 acre tract, a distance of 18.20 feet to a point;

Thence S 86°06′35″ E, continuing through said 295.137 acre tract, a distance of 435.21 feet to a point;

Thence S 03°45′18″ W, continuing through said 295.137 acre tract, a distance of 31.60 feet to a point of curvature;

Thence along a non-tangent curve to the right, continuing through said 295.137 acre tract, having a radius of 1979.86 feet, a central angle of 22°14′57″, an arc distance of 768.82 feet to a point in the southerly line of said 4.474 acre tract, said point being subtended by chord bearing N 82°42′47″ E, a chord distance of 764.00 feet;

Thence S 86°09′45″ E, along the southerly line of said 4.474 acre tract and the northerly line of said 0.371 acre tract, a distance of 301.01 feet to the Point of Beginning and containing 70.643 acres, more or less;

The basis of bearings are based on the grid bearing of S 86°13′48″ E, between Franklin County Survey Control Monument Numbers 9958 and 9962.

Issued in Romulus, Michigan on April 24, 2006.
Irene Porter,
Manager, Detroit Airports District Office FAA, Great Lakes Region.

[FR Doc. 06-4329 Filed 5-8-06; 8:45 am]

BILLING CODE 4910-13-M